DEPARTMENT OF COMMERCE

National Oceanic and Atmospheric Administration

[RTID 0648-XA043]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 135th Scientific and Statistical Committee (SSC), Social Science Planning Committee, Program Planning and Research Standing Committee, Pelagic and International Standing Committee, Executive and Budget Standing Committee, and 181st Council meetings to take actions on fishery management issues in the Western Pacific Region.

DATES: The meetings will be held between March 3 and 12, 2020. For specific times and agendas, see SUPPLEMENTARY INFORMATION.

ADDRESSES: The 135th SSC, Social Science Planning Committee, the Council's Executive and Budget Standing Committee, Pelagic and International Standing Committee, and Program Planning and Research Standing Committee meetings will be held at the Council office, 1164 Bishop Street, Suite 1400, Honolulu, HI 96813, phone: (808) 522-8220. The 181st Council meeting will be held at the Laniakea YWCA, Fuller Hall, 1040 Richards Street, Honolulu, HI 96813, phone: (808) 538-7061. The Fishers Forum will be held at the Aloha Tower Marketplace, 1 Aloha Tower Drive, Honolulu, Hawai`i 96813, phone: (808) 544-1453.

FOR FURTHER INFORMATION CONTACT: Kitty M. Simonds, Executive Director, Western Pacific Fishery Management Council; phone: (808) 522-8220.

SUPPLEMENTARY INFORMATION: The 135th SSC meeting will be held between 8:30 a.m. and 5 p.m. on March 3 to 5, 2020. The Social Science Planning Committee meeting will be held between 1:30 p.m. to 5 p.m. on March 5, 2020. The Program Planning and Research Standing Committee will be held on March 9, 2020, between 8:30 a.m. and 10:30 a.m. The Pelagic and International Standing Committee will be held on March 9, 2020, between 11 a.m. and 2:30 p.m. The Executive and Budget Standing Committee meeting will be held on March 9, 2020, between 3 p.m. and 5:30 p.m. The 181st Council meeting will be held between 9 a.m. and 5 p.m. on March 10, 2020, and between 8:30 a.m. and 5 p.m. on March 11-12, 2020. On March 10, 2020, the Council will host a Fishers Forum between 6 p.m. and 9 p.m.

Agenda items noted as “Final Action” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 135th SSC Meeting

Tuesday, March 3, 2020, 8:30 a.m. to 5 p.m.

1. Introductions

2. Approval of Draft Agenda and Assignment of Rapporteurs

3. Status of the 134th SSC Meeting Recommendations

4. Report from Pacific Islands Fisheries Science Center Director

5. Program Planning and Research

A. Standardized Bycatch Reporting Methodology

B. Public Comment

C. SSC Discussion and Recommendations

6. Island Fisheries

A. Options Paper to Amend Bottomfish Management Unit Species in the American Samoa and Marianas Fishery Ecosystem Plans (FEP) (Initial Action)

B. Specifying the Acceptable Biological Catches (ABC) in the Marianas Bottomfish Fisheries

1. P-star analysis

2. SEEM analysis

3. Options for ABC in the Marianas Bottomfish Fisheries (Final Action)

C. Interim Measure for American Samoa Bottomfish Fishery

D. Requirements for Rebuilding Plans

E. Update on Hawaii Precious Corals Essential Fish Habitat (EFH) and Associated Bed Designation Issues

F. Public Comment

G. SSC Discussion and Recommendations

7. Protected Species

A. False Killer Whale Abundance Estimates

B. Assessing Population Level Impacts of Marine Turtle Interactions in the Hawaii Deep-set Longline Fishery

C. Hawaii-based Shallow-set Longline Fishery Biological Opinion Reasonable and Prudent Measures Working Group

D. Ecosystem-based Fisheries Management Project for Protected Species Impacts Assessment for Hawaii and American Samoa Longline Fisheries

E. Public Comment

F. SSC Discussion and Recommendations

Wednesday, March 4, 2020, 8:30 a.m.-5 p.m.

SSC Plenary Presentation: Threat Management Plan for Two Endemic Subspecies of Dolphins

8. Pelagic Fisheries

A. American Samoa Longline Annual Fishery Report

B. Hawaii Longline Annual Fishery Report

C. Bigeye Tuna Research Initiative

D. Electronic Reporting and Electronic Monitoring

1. Electronic Technologies Implementation Plan

2. Pacific Islands Region Longline Electronic Reporting Plan and Options for Implementation of Mandatory Reporting

3. Pacific Islands Regional Observer Program Overview and Costs

4. 2020 Electronic Monitoring Workshop

E. U.S. Territory Longline Bigeye Catch/Allocation Limits (Final Action)

F. Deep Sea Mining and Spatial Planning in the Pacific

G. International Fisheries

1. Western and Central Pacific Fisheries Commission (WCPFC)

a. Conservation and Management Measures on Tropical Tunas

b. North Pacific Striped Marlin Rebuilding Plan

H. Report on Scoping Meeting on Small Boat Pelagic Reporting

I. Public Comment

J. SSC Discussion and Recommendations

Thursday, March 5, 2020, 8:30 a.m.-5 p.m.

9. Other Business

A. June 2020 SSC Meetings Dates

B. National SSC Meeting Trigger Questions

10. Summary of SSC Recommendations to the Council

Agenda for the Social Science Planning Committee

Thursday, March 5, 2020, 1:30 p.m. to 5 p.m.

1. Welcome and Introductions

2. Approval of Agenda

3. Review of the Social Science Planning Committee Research Plan and Priorities

4. NMFS Socioeconomic Aspects in Stock Assessments

5. Social Impact Assessment

6. Cost-benefit Analysis to Evaluate Impacts of Council Management Actions

7. Report on OceanObs 2019 Outcomes on Incorporating Traditional Knowledge

8. User Group Involvement in Developing Stock Assessments

9. Public Comment

10. Discussion and Recommendations

11. Other Business

Agenda for the Program Planning and Research Standing Committee

Monday, March 9, 2020, 8:30 a.m. to 10:30 a.m.

1. Territorial Bottomfish

A. Interim Measure for the American Samoa Bottomfish Fishery

B. Annual Catch Limits (ACL) and Accountability Measures (AM) for Mariana Archipelago Bottomfish

1. P* Report and SEEM Report

2. Alternatives for ACLs and AMs (Final Action)

2. Options Paper to Amend the Bottomfish Management Unit Species in the American Samoa and Marianas FEP (Initial Action)

3. Requirements for Rebuilding Plans

4. Standardized Bycatch Reporting Methodology

5. Update to Council FEPs

6. Advisory Group Report and Recommendations

A. Advisory Panel Report

B. Archipelagic Plan Team Report

C. Scientific & Statistical Committee

7. Other Issues

8. Public Comment

9. Discussion and Recommendations

Agenda for the Pelagic and International Standing Committee

Monday, March 9, 2020, 11 a.m. to 2:30 p.m.

1. Hawaii-based Shallow-set Longline Fishery Biological Opinion Reasonable and Prudent Measures Working Group

2. Assessing Population Level Impacts of Marine Turtle Interactions in the Hawaii Deep-set Longline Fishery

3. Electronic Reporting and Electronic Monitoring

A. Electronic Technologies Implementation Plan

B. Pacific Islands Region Longline Electronic Reporting Plan and Options for Implementation of Mandatory Reporting

4. U.S. Territory Longline Bigeye Catch/Allocation Limits (Final Action)

5. International Fisheries

A. WCPFC

a. Report on 16th Regular Session of the WCPFC

b. North Pacific Striped Marlin Rebuilding Plan

B. Outcomes of UN Biodiversity Beyond National Jurisdiction (BBNJ) Meeting

6. Advisory Group Report and Recommendations

A. Advisory Panel

B. Scientific & Statistical Committee

7. Other Issues

8. Public Comment

9. Discussion and Recommendations

Agenda for the Executive and Budget Standing Committee

Monday, March 9, 2020, 3 p.m. to 5:30 p.m.

1. Financial Reports

A. Current Grants

B. New Grants

2. Administrative Reports

3. Freedom of Information Act and Congressional Requests

4. Council Coordination Committee Meeting

5. Council Family Changes

A. Archipelagic Plan Team

B. American Samoa Advisory Panel

6. Meetings and Workshops

7. Other Issues

8. Public Comment

9. Discussion and Recommendations

Agenda for 181st Council Meeting

Tuesday, March 10, 2020, 9 a.m. to 5 p.m.

1. Welcome and Introductions

2. Oath of Office

3. Approval of the 181st Agenda

4. Approval of the 180th Meeting Minutes

5. Executive Director's Report

6. Agency Reports

A. NOAA Office of General Counsel, Pacific Islands Section

B. National Marine Fisheries Service

1. Pacific Islands Regional Office

2. Pacific Islands Fisheries Science Center

3. Revising NEPA Procedure Provisions

C. U.S. State Department

D. U.S. Fish and Wildlife Service

E. Enforcement

1. U.S. Coast Guard

2. NOAA Office of Law Enforcement

3. NOAA Office of General Counsel, Enforcement Section

F. Public Comment

G. Council Discussion and Action

7. Hawaii Archipelago & Pacific Remote Island Areas (PRIA)

A. Moku Pepa

B. Legislative Report

C. Enforcement Issues

D. Hawaii Management Initiatives and Research

1. Report on State of Hawaii Kona Crab Rule Changes

2. Aquarium Fishery Update

E. Report on MHI Small-boat Scoping Meetings

F. Update on Precious Corals EFH and Associated Bed Designation Issues

G. Community Activities and Issues

H. Education and Outreach Initiatives

I. Advisory Group Report and Recommendations

1. Advisory Panel

2. Scientific & Statistical Committee

J. Public Comment

K. Council Discussion and Action

8. Protected Species

A. False Killer Whale Abundance Estimate

B. Status of Endangered Species Act (ESA) Consultations

C. Pacific Islands Regional Office Green Turtle Recovery Plan Implementation

D. Other ESA and Marine Mammal Protection Act Updates

E. Advisory Group Report and Recommendations

1. Advisory Panel

2. Scientific & Statistical Committee

F. Public Comment

G. Council Discussion and Action

Tuesday, March 10, 2020, 4 p.m.

9. Public Comment on Non-agenda Items

Tuesday, March 10, 2020, 6 p.m.-9 p.m.

Fishers Forum

Wednesday, March 11, 2020, 8:30 a.m.-5 p.m.

10. Program Planning and Research

A. National Legislative Report

B. Territorial Bottomfish

1. Interim Measure for the American Samoa Bottomfish Fishery

2. Annual Catch Limits (ACLs) and Accountability Measures (AMs) for Mariana Archipelago Bottomfish

a. P* Report

b. SEEM* Report

c. Alternatives for ACLs and AMs (Final Action)

C. Options paper to Amend the Bottomfish Management Unit Species in the American Samoa and Marianas FEP (Initial Action)

D. Requirements for Rebuilding Plans

E. Standardized Bycatch Reporting Methodology

F. PRIA and Hawaii Marine Conservation Plans

G. Update to Council FEPs

H. Regional, National, & International Outreach & Education

I. Advisory Group Report and Recommendations

1. Advisory Panel Report

2. Archipelagic Plan Team Report

3. Scientific & Statistical Committee

J. Standing Committee Report

K. Public Comment

L. Council Discussion and Action

11. Pelagic & International Fisheries

A. American Samoa Longline Annual Fishery Report

B. Hawaii Longline Annual Fishery Report

C. Hawaii-based Shallow-set Longline Fishery Biological Opinion Reasonable and Prudent Measures Working Group

D. Assessing Population Level Impacts of Marine Turtle Interactions in the Hawaii Deep-set Longline Fishery

E. Electronic Reporting and Electronic Monitoring

1. Electronic Technologies Implementation Plan

2. Pacific Islands Region Longline Electronic Reporting Plan and Options for Implementation of Mandatory Reporting

3. Pacific Islands Regional Observer Program Overview & Costs

4. 2020 Electronic Monitoring Workshop

F. US Territory Longline Bigeye Catch/Allocation Limits (Final Action)

G. Deep Sea Mining and Spatial Planning in the Pacific

H. International Fisheries

1. WCPFC

a. Report on 16th Regular Session of the WCPFC

b. Conservation & Management Measures on Tropical Tunas

c. North Pacific Striped Marlin Rebuilding Plan

2. Outcomes of UN BBNJ Meeting

I. Advisory Group Report and Recommendations

1. Advisory Panel

2. Scientific & Statistical Committee

J. Standing Committee Report and Recommendations

K. Public Comment

L. Council Discussion and Action

Thursday, March 12, 2020, 8:30 a.m. to 5 p.m.

12. American Samoa Archipelago

A. Motu Lipoti

B. Fono Report

C. Enforcement Issues

D. Management and Research Initiatives

1. Pacific Insular Fisheries Monitoring Assessment and Planning Summit (PIFMAPS) Implementation

a. Regulation Patch Up

b. Director Annual Proclamation

E. Community Activities and Issues

F. Education and Outreach Initiatives

G. Advisory Group Report and Recommendations

1. Advisory Panel

2. Scientific & Statistical Committee

H. Public Comment

I. Council Discussion and Action

13. Mariana Archipelago

A. Guam

1. Isla Informe

2. Legislative Report

3. Enforcement Issues

4. Management and Research Initiatives

a. PIFMAPS Implementation

i. Draft Regulations for Licensing

5. Guam Marine Conservation Plan

6. Community Activities and Issues

7. Education and Outreach Initiatives

B. CNMI

1. Arongol Falú

2. Legislative Report

3. Enforcement Issues

4. Management and Research Initiatives

a. PIFMAPS Implementation

i. Issuing Licenses for Fishermen

b. Reporting App Update

5. CNMI Marine Conservation Plan

6. Community Activities and Issues

7. Education and Outreach Initiatives

C. Advisory Group Reports and Recommendations

1. Mariana Archipelago FEP Advisory Panel

2. Scientific & Statistical Committee

D. Public Comment

E. Council Discussion and Action

13. Administrative Matters

A. Financial Reports

1. Current Grants

2. New Grants

B. Administrative Reports

C. Council Coordination Committee Meeting

D. Council Family Changes

1. Archipelagic Plan Team

2. American Samoa Advisory Panel

E. Meetings and Workshops

F. Standing Committee Report

G. Public Comment

H. Council Discussion and Action

14. Other Business

Non-emergency issues not contained in this agenda may come before the Council for discussion and formal Council action during its 181st meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least five days prior to the meeting date.

Authority: 16 U.S.C. 1801 et seq.

Dated: February 10, 2020.
Tracey L. Thompson,
Acting Deputy Director, Office of Sustainable Fisheries, National Marine Fisheries Service.

[FR Doc. 2020-02950 Filed 2-13-20; 8:45 am]

BILLING CODE 3510-22-P